Proclamation 8266 of May 30, 2008

Italian Independence Day, 2008

By the President of the United States of America

A Proclamation

On Italian Independence Day, we recognize our friendship with the nation of Italy, and we celebrate the generations of Italian Americans who have made significant contributions to our national character.

June 2, 1946, marks the birth of the Italian Republic, the long-awaited triumph of liberty and democracy in an ancient land. Today, Italy is a friend of the United States and an ally of freedom and peace. Italians and Americans join together on Italian Independence Day to commemorate Italy's independence and celebrate its rich history.

The people of our two countries share special ties rooted in history, friendship, and family. Millions of American citizens have Italian ancestry, and they and their forebears have helped shape our way of life. Americans are grateful for the many contributions Italians and Italian Americans have made to our history and our culture, and we are proud that our nations are allies in the cause of peace and security around the world.

In celebrating Italian Independence Day, we commemorate the freedoms our countries hold dear, and we honor the generations of Italian Americans who came to our shores seeking opportunity. They have helped to shape our great Nation and influenced American life for the better.

NOW, THEREFORE, I, GEORGE W. BUSH, President of the United States of America, by virtue of the authority vested in me by the Constitution and laws of the United States, do hereby proclaim June 2, 2008, as Italian Independence Day. I call upon all Americans to observe this day by celebrating the contributions of Italians and Italian Americans to our Nation.

IN WITNESS WHEREOF, I have hereunto set my hand this thirtieth day of May, in the year of our Lord two thousand eight, and of the Independence of the United States of America the two hundred and thirty-second.

[FR Doc. 08-1324

Filed 6-3-08; 8:59 am]

Billing code 3195-01-P